ENVIRONMENTAL PROTECTION AGENCY

[EPA-R04-OW-2006-0057; FRL-8028-7]

Public Water Supply Supervision Program Rules for the State of Mississippi

AGENCY: Environmental Protection Agency (EPA).

ACTION: Tentative approval.

SUMMARY: EPA is proposing to approve the State of Mississippi's drinking water regulations for the Radionuclides, Arsenic, and Filter Backwash Recycling Rules. EPA has determined that these revisions are no less stringent than the corresponding Federal regulations. Therefore, EPA intends on approving the program revisions.

DATES: All interested parties may request a public hearing and/or submit comments on or before March 10, 2006.

ADDRESSES: Submit your comments, identified by Docket ID No. EPA-R04-OW-2006-0057, in one of the following methods:

1. http://www.regulations.gov: Follow the on-line instructions for submitting comments.

2. E-mail: mcmullen.shaun@epa.gov.

3. Fax: (404) 562-9439.

4. Mail: EPA-R04-OW-2006-0057, U.S. Environmental Protection Agency, Region 4, Water Management Division, Ground Water and Drinking Water Branch, Drinking Water Section, 61 Forsyth Street, SW., Atlanta, Georgia 30303.

5. Hand Delivery or Courier: Shaun McMullen, U.S. Environmental Protection Agency, Region 4, Water Management Division, 15th Floor, Drinking Water Section, 61 Forsyth Street, SW., Atlanta, Georgia 30303. Such deliveries are only accepted during the Regional Office's normal hours of operation. The Regional Office is open Monday through Friday, 8:30 a.m. to 4:30 p.m., excluding Federal holidays.

Instructions: Direct your comments to Docket ID No. EPA-R04-OW-2006-0057. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the U.S. Environmental Protection Agency, Region 4, Water Management Division, 61 Forsyth Street, SW., Atlanta, Georgia 30303.

FOR FURTHER INFORMATION CONTACT: Mississippi State Department of Health, Bureau of Water Supply, 2423 North State Street, Jackson, Mississippi 39215 or Mr. McMullen, U.S. Environmental Protection Agency, Region 4, Water Management Division, Ground Water and Drinking Water Branch, Drinking Water Section, 61 Forsyth Street, SW., Atlanta, Georgia 30303-8960. Please contact Mr. McMullen at (404) 562-9294 and/or electronic mail address at mcmullen.shaun@epa.gov for questions and/or comments regarding this tentative approval for the State of Mississippi's Public Water Supply Supervision Program.

Authority: Section 1442 of the Safe Drinking Water Act as amended in 1996 and 40 CFR part 142.

Dated: January 30, 2006.
A. Stanley Meiburg,
Acting Regional Administrator, Region 4.

[FR Doc. E6-1718 Filed 2-7-06; 8:45 am]

BILLING CODE 6560-50-P